DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing an update to the identifying information on its Specially Designated Nationals and Blocked Persons List (SDN List) for one individual whose property and interests in property subject to U.S. jurisdiction are blocked pursuant to Executive Order 13224, as amended.

DATES: See Supplementary Information section for effective date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Compliance, tel.: 202-622-2490.

SUPPLEMENTARY INFORMATION:

Electronic Availability

The SDN List and additional information concerning OFAC sanctions programs are available on OFAC's website (ofac.treasury.gov).

Notice of OFAC Action

On June 14, 2024, OFAC published the following revised information for the entry on the SDN List for the following individual whose property and interests in property are blocked pursuant to Executive Order 13224 of September 23, 2001, “Blocking Property and Prohibiting Transactions With Persons Who Commit, Threaten To Commit, or Support Terrorism,” as amended by Executive Order 13886 of September 9, 2019, “Modernizing Sanctions to Combat Terrorism.”

Individual

1. SHEVCHUK, Stanislav (a.k.a. CHEVTCHOUK, Stanislav; a.k.a. SHEVCHUK, Stanislav Anatolevich; a.k.a. SHEVCHUK, Stanislav Anatolyevich), Ul Asanalieva 8 24, Minsk, Belarus; C. De Villarroel 159 4 4, L'Eixample, Barcelona 08036, Spain; DOB 14 Jul 1975; POB Penza, Russia; nationality Russia; Gender Male; Secondary sanctions risk: section 1(b) of Executive Order 13224, as amended by Executive Order 13886; Passport 530780883 (Russia) expires 16 Dec 2024; alt. Passport 514676569 (Russia) expires 26 Apr 2015 (individual) [SDGT] (Linked To: RUSSIAN IMPERIAL MOVEMENT).

Designated pursuant to section 1(c): Owned or Controlled by, or Acted For or on Behalf of, a SDGT. RUSSIAN IMPERIAL MOVEMENT

Dated: June 14, 2024.
Bradley T. Smith,
Director, Office of Foreign Assets Control, U.S. Department of the Treasury.

[FR Doc. 2024-13791 Filed 6-21-24; 8:45 am]

BILLING CODE 4810-AL-P